ENVIRONMENTAL PROTECTION AGENCY

[EPA-HQ-OAR-2006-0971; FRL-9976-54-OAR]

Proposed Information Collection Request; Comment Request; National Volatile Organic Compound Emission Standards for Aerosol Coatings

AGENCY: Environmental Protection Agency (EPA).

ACTION: Notice.

SUMMARY: The Environmental Protection Agency (EPA) is planning to submit an information collection request (ICR), “National Volatile Organic Compound Emission Standards for Aerosol Coatings” (EPA ICR No. 2289.04, OMB Control No. 2060-0617) to the Office of Management and Budget (OMB) for review and approval in accordance with the Paperwork Reduction Act (PRA). Before doing so, the EPA is soliciting public comments on specific aspects of the proposed information collection as described below. This is a proposed extension of the ICR, which is currently approved through October 31, 2018. An Agency may not conduct or sponsor and a person is not required to respond to a collection of information unless it displays a currently valid OMB control number.

DATES: Comments must be submitted on or before June 18, 2018.

ADDRESSES: Submit your comments, referencing Docket ID No. EPA-HQ-OAR-2006-0971 online using www.regulations.gov (our preferred method), by email to: a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI), or other information whose disclosure is restricted by statute.

FOR FURTHER INFORMATION CONTACT: Ms. Kaye Whitfield, Sector Policies and Programs Division (Mail Code D243-02), Office of Air Quality Planning and Standards, U.S. Environmental Protection Agency, Research Triangle Park, North Carolina 27711; telephone number: (919) 541-2509; fax number: (919) 541-5450; email address: whitfield.kaye@epa.gov.

SUPPLEMENTARY INFORMATION: Supporting documents which explain in detail the information that the EPA will be collecting are available in the public docket for this ICR. The docket can be viewed online at www.regulations.gov or in person at the EPA Docket Center, EPA WJC West Building, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The EPA is required under section 183(e) of the Clean Air Act (CAA) to regulate volatile organic compound (VOC) emissions from the use of consumer and commercial products. Pursuant to CAA section 183(e)(3), the EPA published a list of consumer and commercial products and a schedule for their regulation (60 FR 15264). Aerosol coatings are included on the list, and the standards for such coatings are codified at 40 CFR part 59, subpart E. The reports required under the standards enable the EPA to identify coating formulations manufactured, imported, or distributed in the United States, and to determine the product-weighted reactivity. The ICR addresses the burden for activities conducted in 3-year increments after promulgation of the national VOC emission standards for aerosol coatings. Regulated entities read instructions to determine how they are affected by the rule. They are required to submit initial notifications when an aerosol coating is manufactured and notification of changes in the initial report, to report formulation data and exemptions claimed, and to maintain records. In addition, regulated entities are required to submit triennial reports that include formulation data and VOC usage.

Form Numbers: None.

Respondents/affected entities: Respondents to this information collection are manufacturers, distributors, and importers of aerosol coatings. These regulated entities fall within the North American Industry Classification System (NAICS) Code 32551, “Paint and Coating Manufacturing” and NAICS Code 325998, “All Other Miscellaneous Chemical Production and Preparation Manufacturing.”

Respondent's obligation to respond: Mandatory under 40 CFR part 59, subpart E.

Estimated number of respondents: 65 (total).

Frequency of response: Annual, triennial.

Total estimated burden: 12,259 hours (per year). Burden is defined at 5 CFR 1320.03(b).

Total estimated cost: $855,113 (per year), includes no annualized capital or operation and maintenance costs.

Changes in Estimates: There is a decrease of 6 hours in the total estimated respondent burden compared with the ICR currently approved by OMB. This decrease is due to addressing calculation errors in the previously approved ICR.

Dated: April 11, 2018.
Penny Lassiter,
Acting Director, Sector Policies and Programs Division.

[FR Doc. 2018-08041 Filed 4-17-18; 8:45 am]

BILLING CODE 6560-50-P